COMMITTEE FOR PURCHASE FROM PEOPLE WHO ARE BLIND OR SEVERELY DISABLED

Procurement List; Proposed Additions and Deletions

AGENCY: Committee for Purchase From People Who Are Blind or Severely Disabled.

ACTION: Proposed Additions to and Deletions from the Procurement List.

SUMMARY: The Committee is proposing to add products and service to the Procurement List that will be furnished by nonprofit agencies employing persons who are blind or have other severe disabilities, and deletes services previously furnished by such agencies.

Comments Must be Received on Or Before: 7/13/2015.

ADDRESSES: Committee for Purchase From People Who Are Blind or Severely Disabled, 1401 S. Clark Street, Suite 715, Arlington, Virginia, 22202-4149.

For Further Information or to Submit Comments Contact: Barry S. Lineback, Telephone: (703) 603-7740, Fax: (703) 603-0655, or email CMTEFedReg@AbilityOne.gov.

SUPPLEMENTARY INFORMATION: This notice is published pursuant to 41 U.S.C. 8503 (a)(2) and 41 CFR 51-2.3. Its purpose is to provide interested persons an opportunity to submit comments on the proposed actions.

Additions

If the Committee approves the proposed additions, the entities of the Federal Government identified in this notice will be required to procure the products and service listed below from nonprofit agencies employing persons who are blind or have other severe disabilities.

The following products and service are proposed for addition to the Procurement List for production by the nonprofit agencies listed:

PRODUCTS:

NSN(s)—Product Name(s):

5120-01-240-2120—Combination Tool, Fire Fighter's

5120-01-296-3592—Tool Handle, Replacement, Fire Line Combination Tool

5120-00-293-3467—Pulaski Tool, Fire Fighter's

5110-01-137-7507—Handle, Pulaski Tool, With Wedge

Mandatory Purchase For:

Total Government Requirement

Mandatory Source of Supply:

Mississippi Industries for the Blind, Meridian, MS

Contracting Activity:

Defense Logistics Agency Troop Support, Philadelphia, PA

Distribution:

B-List

NSN(s)—Product Name(s):

8940-00-NIB-0108—Fish Oil, 1000mg, 100 Capsules

8940-00-NIB-0109—Cyanocobalamin (B-12), 1000mcg, 100 Tablets

8940-00-NIB-0110—Cholecalciferol (D-3), 2000 IU, 100 Pills

8940-00-NIB-0111—Magnesium Oxide, 420mg, 100 Tablets

8940-00-NIB-0112—Omega-3 Fish Oil, 500mg, 45 Softgel Tablets

8940-00-NIB-0113—Omega-3 Fish Oil, 1000mg, 60 Softgel Tablets

8940-00-NIB-0114—Dual Spectrum Krill/Fish Oil-Omega-3, 120 Pills

8940-00-NIB-0115—Omega 3-6-9, 120 Pills

8940-00-NIB-0116—Krill Oil, 300mg, 60 Pills

8940-00-NIB-0118—Co-Q-10, 200mg, 100 Pills

8940-00-NIB-0119—Glucosamine Chondroitin, Triple Strength, 120 Pills

Mandatory Purchase For:

100% of the requirements of the Department of Defense

Mandatory Source of Supply:

Alphapointe Association for the Blind

Contracting Activity:

Defense Logistics Agency Troop Support—Subsistence, Philadelphia, PA

Distribution:

C-List

NSN(s)—Product Name(s):

8455-00-NIB-0003—Badge Reel, ID, Retractable, Bulldog Clip, Black

8455-00-NIB-0050—Flight Line Lanyard, Cord Style, Breakaway, with Holder, Black, 36” × .25”

8455-00-NIB-0051—Holder, Badge, Vinyl, Re-Sealable, Clear, 3-3/4” × 2-5/8”

Mandatory Purchase For:

Total Government Requirement

Mandatory Source of Supply:

West Texas Lighthouse for the Blind, San Angelo, TX

Contracting Activity:

General Services Administration, Fort Worth, TX

Distribution:

A-List

NSN(s)—Product Name(s):

5130-00-NIB-0075—3/8 Drive Shallow Standard, SAE 6 Point Fasteners, 12 Pieces

5130-00-NIB-0076—3/8 Drive Deep Standard, SAE 6 Point Fasteners, 12 Pieces

5130-00-NIB-0077—1/2 Drive Shallow Standard, SAE 6 Point Fasteners, 11 Pieces

5130-00-NIB-0078— 1/2 Drive Deep Standard, SAE 6 Point Fasteners, 13 Pieces

5130-00-NIB-0079—3/8 Drive Shallow Metric, 6 Point Fasteners, 14 Pieces

5130-00-NIB-0080—3/8 Drive Deep Metric, 6 Point Fasteners, 14 Pieces

5130-00-NIB-0081—1/2 Drive Shallow Metric, 6 Point Fasteners, 15 Pieces

5130-00-NIB-0082—1/2 Drive Deep Metric, 6 Point Fasteners, 15 Pieces

Mandatory Purchase For:

Total Government Requirement

Mandatory Source of Supply:

Beyond Vision, Inc., Milwaukee, WI

Contracting Activity:

General Services Administration, Kansas City, MO

Distribution:

B-List

NSN(s)—Product Name(s):

8340-00-NIB-0019—20'×25' polyethylene 8×8 tarp with grommets

8340-00-NIB-0020—20'×25' polyethylene 10×10 tarp with grommets

Mandatory Purchase For:

100% of the requirements of the Department of Defense

Mandatory Source of Supply:

Association for Vision Rehabilitation and Employment, Inc., Binghamton, NY

Contracting Activity:

Defense Logistics Agency Troop Support—Construction & Equipment, Philadelphia, PA

Distribution:

C-List

NSN(s)—Product Name(s):

4240-00-NIB-0237—5' Illuminating Grip Wrap

4240-00-NIB-0238—10' Illuminating Grip Wrap

4240-00-NIB-0239—SCBA ID Tags

4240-00-NIB-0240—One-Sided Exit Sign, Silver Frame, Post Mount

4240-00-NIB-0241—Two-Sided Exit Sign, Silver Frame, Post Mount

4240-00-NIB-0242—One-Sided Exit Sign, Silver Frame, Wall Mount

4240-00-NIB-0243—One-Sided Exit Sign, No Frame, No Mount

4240-00-NIB-0244—25' Illuminating Tape

4240-00-NIB-0245—50' Illuminating Tape

4240-00-NIB-0246—25' Illuminating Tape with Arrows

4240-00-NIB-0247—50' Illuminating Tape with Arrows

4240-00-NIB-0248—Illuminating Helmet Band

Mandatory Purchase For:

100% of the requirements of the Department of Defense

Mandatory Source of Supply:

Cincinnati Association for the Blind and Visually Impaired, Cincinnati, OH

Contracting Activity:

Defense Logistics Agency Troop Support—Construction & Equipment, Philadelphia, PA

Distribution:

C-List

NSN(s)—Product Name(s):

5340-00-NIB-0152—Door Closer, Architectural Commercial Grade

5340-00-NIB-0134—Lockset, Cylindrical, Passage/Closet Function, Philadelphia-style Lever

5340-00-NIB-0239—Lockset, Cylindrical, Exit Function, Philadelphia-style Lever

5340-00-NIB-0240—Lockset, Cylindrical, Exit Function, Boston-style Lever

5340-00-NIB-0254—Lockset, Cylindrical, Passage/Closet Function, Boston-style Lever

5340-00-NIB-0136—Lockset, Cylindrical, Privacy Function, Philadelphia-style Lever

5340-00-NIB-0255—Lockset, Cylindrical, Privacy Function, Boston-style Lever

5340-00-NIB-0154—Door Closer, Architectural Commercial Grade with Hold Open Function

5340-00-NIB-0132—Lockset, Cylindrical, Storeroom Function, Philadelphia-style Lever, Small Format Interchangeable Core

5340-00-NIB-0133—Lockset, Cylindrical, Office/Entrance Function, Philadelphia-style Lever, Small Format Interchangeable Core

5340-00-NIB-0250—Lockset, Cylindrical, Entrance Function, Boston-style Lever, Small Format Interchangeable Core

5340-00-NIB-0252—Lockset, Cylindrical, Storeroom Function, Boston-style Lever, Small Format Interchangeable Core

5340-00-NIB-0256—Lockset, Cylindrical, Entry Function, Philadelphia-style Lever, Small Format Interchangeable Core

5340-00-NIB-0257—Lockset, Cylindrical, Entry Function, Boston-style Lever, Small Format Interchangeable Core

5340-00-NIB-0251—Lockset, Cylindrical, Entrance Function, Philadelphia-style Lever, Large Format Interchangeable Core

5340-00-NIB-0253—Lockset, Cylindrical, Storeroom Function, Philadelphia-style Lever, Large Format Interchangeable Core

5340-00-NIB-0258—Lockset, Cylindrical, Entrance Function, Philadelphia-style Lever, Large Format Interchangeable Core

5340-00-NIB-0293—Door Closer, Architectural Commercial Grade with Door Saver Arm, Aluminum

5340-00-NIB-0294—Door Closer, Architectural Commercial Grade with Door Saver Arm, Cast Iron

5340-00-NIB-0247—Lockset, Cylindrical, Dormitory/Corridor Function, Philadelphia-style Lever, Small Format Interchangeable Core

5340-00-NIB-0248—Lockset, Cylindrical, Dormitory/Corridor Function, Boston-style Lever, Small Format Interchangeable Core

5340-00-NIB-0249—Lockset, Cylindrical, Dormitory/Corridor Function, Philadelphia-style Lever, Large Format Interchangeable Core

5340-00-NIB-0135—Lockset, Cylindrical, Vestibule/Classroom Function, Philadelphia-style Lever, Small Format Interchangeable Core

5340-00-NIB-0237—Lockset, Cylindrical, Storeroom Function, Boston-style Lever, Small Format Interchangeable Core

5340-00-NIB-0241—Lockset, Cylindrical, Institutional Function, Philadelphia-style Lever, Small Format Interchangeable Core

5340-00-NIB-0242—Lockset, Cylindrical, Institutional Function, Boston-style Lever, Small Format Interchangeable Core

5340-00-NIB-0244—Lockset, Cylindrical, Communication Function, Philadelphia-style Lever, Large Format Interchangeable Core

5340-00-NIB-0245—Lockset, Cylindrical, Communication Function, Boston-style Lever, Small Format Interchangeable Core

5340-00-NIB-0259—Lockset, Cylindrical, Vestibule/Classroom/Security function, Philadelphia-style Lever, Small Format Interchangeable Core

5340-00-NIB-0236—Lockset, Cylindrical, Store Room Function, Philadelphia-style Lever, Small Format Interchangeable Core

5340-00-NIB-0238—Lockset, Cylindrical, Storeroom Function, Philadelphia-style Lever, Large Format Interchangeable Core

5340-00-NIB-0243—Lockset, Cylindrical, Institutional Function, Philadelphia-style Lever, Large Format Interchangeable Core

5340-00-NIB-0246—Lockset, Cylindrical, Communication Function, Philadelphia style lever, Large Format Interchangeable Core

5340-00-NIB-0260—Lockset, Cylindrical, Vestibule/Classroom/Security function, Boston-style Lever, Large Format Interchangeable Core

5340-00-NIB-0153—Door Closer, Heavy Duty Institutional Grade

5340-00-NIB-0299—Door Closer, Heavy Duty Institutional Grade, Delayed Action

5340-00-NIB-0139—Lockset, Mortise, Passage Function, Escutcheon Trim, Philadelphia-style Lever

5340-00-NIB-0282—Lockset, Mortise, Passage Function, Escutcheon Trim, Ball Knob

5340-00-NIB-0283—Lockset, Mortise, Passage Function, Escutcheon Trim, Dallas-style Lever

5340-00-NIB-0295—Door Closer, Architectural Commercial Grade with Spring Cushion Stop

5340-00-NIB-0141—Lockset, Mortise, Privacy Function, Escutcheon Trim, Philadelphia-style Lever

5340-00-NIB-0291—Lockset, Mortise, Privacy Function, Escutcheon Trim, Ball Knob

5340-00-NIB-0292—Lockset, Mortise, Privacy Function, Escutcheon Trim, Dallas-style Lever

5340-00-NIB-0261—Lockset, Cylindrical, Classroom Security LED Function, Philadelphia-style Lever, Small Format Interchangeable Core

5340-00-NIB-0262—Lockset, Cylindrical, Classroom Security LED function, Boston-style Lever, Small Format Interchangeable Core

5340-00-NIB-0298—Door Closer, Heavy Duty Institutional Grade with Spring Cushion Stop

5340-00-NIB-0155—Door Closer, Heavy Duty Institutional Grade with Hold Open Function

5340-00-NIB-0296—Door Closer, Heavy Duty Institutional Grade with Door Saver Arm

5340-00-NIB-0297—Door Closer, Heavy Duty Institutional Grade with Door Saver, Hold Open Arm

5340-00-NIB-0137—Lockset, Mortise, Storeroom Function, Escutcheon Trim, Philadelphia-style Lever

5340-00-NIB-0138—Lockset, Mortise, Office Function, Escutcheon Trim, Philadelphia-style Lever

5340-00-NIB-0263—Lockset, Mortise, Classroom Holdback Function, Escutcheon Trim, Philadelphia-style Lever

5340-00-NIB-0264—Lockset, Mortise, Holdback Function, Escutcheon Trim, Ball Knob

5340-00-NIB-0265—Lockset, Mortise, Classroom Holdback Function, Escutcheon Trim, Dallas-style Lever

5340-00-NIB-0278—Lockset, Mortise, Storeroom Function, Escutcheon Trim, Ball Knob

5340-00-NIB-0279—Lockset, Mortise, Storeroom Function, Escutcheon Trim, Dallas-style Lever

5340-00-NIB-0280—Lockset, Mortise, Office Function, Ball Knob

5340-00-NIB-0281—Lockset, Mortise, Office Function, Escutcheon Trim, Dallas-style Lever

5340-00-NIB-0140—Mortise Lockset, Corridor Function, Escutcheon Trim, Philadelphia-style Lever

5340-00-NIB-0266—Lockset, Mortise, Front Door/Corridor Function, Escutcheon Trim, Philadelphia-style Lever

5340-00-NIB-0267—Lockset, Mortise, Front Door/Corridor Function, Escutcheon Trim, Ball Knob

5340-00-NIB-0268—Lockset, Mortise, Front Door/Corridor Function, Escutcheon trim, Dallas-style Lever

5340-00-NIB-0275—Lockset, Mortise, Entrance/Storeroom Function, Escutcheon trim, Philadelphia-style Lever

5340-00-NIB-0276—Lockset, Mortise, Entrance/Storeroom Function, Escutcheon Trim, Ball Knob

5340-00-NIB-0277—Lockset, Mortise, Entrance/Storeroom Function, Escutcheon Trim, Dallas-style Lever

5340-00-NIB-0284—Lockset, Mortise, Corridor Function, Escutcheon Trim, Ball Knob, Dallas-style Lever

5340-00-NIB-0285—Lockset, Mortise, Corridor Function, Escutcheon Trim

5340-00-NIB-0286—Lockset, Mortise, Entrance function, Escutcheon Trim, Philadelphia-style Lever

5340-00-NIB-0287—Lockset, Mortise, Entrance function, Escutcheon Trim, Ball Knob

5340-00-NIB-0288—Lockset, Mortise, Entrance Function, Escutcheon Trim, Dallas-style Lever

5340-00-NIB-0289—Lockset, Mortise, Dormitory/Exit Function, Escutcheon Trim, Ball Knob

5340-00-NIB-0290—Lockset, Mortise, Dormitory/Exit Function, Escutcheon Trim, Dallas-style Lever

5340-00-NIB-0301—Lockset, Mortise, Dormitory/Exit Function, Escutcheon Trim, Philadelphia-style Lever

5340-00-NIB-0300—Door Closer, Heavy Duty Institutional Grade with Door Arm Saver, Delayed Action

5340-00-NIB-0269—Lockset, Mortise, Store Door Function, Escutcheon Trim, Philadelphia-style Lever

5340-00-NIB-0270—Lockset, Mortise, Store Door Function, Escutcheon Trim, Ball Knob

5340-00-NIB-0271—Lockset, Mortise, Store Door Function, Escutcheon Trim, Dallas-style Lever

5340-00-NIB-0272—Lockset, Mortise, Dormitory Function, Escutcheon Trim, Philadelphia-style Lever

5340-00-NIB-0273—Lockset, Mortise, Dormitory Function, Escutcheon Trim, Ball Knob

5340-00-NIB-0274—Lockset, Mortise, Dormitory Function, Escutcheon Trim, Dallas-style Lever

5340-00-NIB-0142—Electronic Push Button Lockset, Philadelphia-style Lever, Small Format Interchangeable Core

5340-00-NIB-0143—Electronic Push Button Lockset, Philadelphia-style Lever, Large Format Interchangeable Core

5340-00-NIB-0144—Exit Device, Rim, Panic Listed, 3' Door

5340-00-NIB-0148—Exit Device, Rim, Panic Listed, 4' Door

5340-00-NIB-0145—Exit Device, Rim, Fire Listed, 3' Door

5340-00-NIB-0149—Exit Device, Rim, Fire Listed, 4' Door

5340-00-NIB-0146—Exit Device, Surface Vertical Rod, Panic Listed, 3' Door

5340-00-NIB-0147—Exit Device, Surface Vertical Rod, Fire Listed

5340-01-NIB-0150—Exit Device, Surface Vertical Rod, Panic Listed, 4' Door

5340-01-NIB-0151—Exit Device, Surface Vertical Rod, Fire Listed, 4' Door

Mandatory Purchase For:

100% of the requirements of the Department of Defense

Mandatory Source of Supply:

VisionCorps, Lancaster, PA

Contracting Activity:

Defense Logistics Agency Troop Support—Industrial Hardware, Philadelphia, PA

Distribution:

C-List

NSN(s)—Product Name(s):

7240-00-NIB-0006—Kit, Cleaning, Bucket and Caddy

Mandatory Purchase For:

Total Government Requirement

Mandatory Source of Supply:

Industries for the Blind, Inc., West Allis, WI

Contracting Activity:

General Services Administration, Fort Worth, TX

Distribution:

B-List

NSN(s)—Product Name(s):

1005-00-NIB-0016—Guard, Gun Barrel, Black, One Size Fits All

Mandatory Purchase For:

100% of the requirement of the Department of Defense

Mandatory Source of Supply:

The Lighthouse for the Blind in New Orleans, Inc., New Orleans, LA

Contracting Activity:

Defense Logistics Agency Land and Maritime, Columbus, OH

Distribution:

C-List

NSN(s)—Product Name(s):

7510-00-272-9805—Envelope, Transparent, Large, 10″ × 13″, BX/100

7510-00-NIB-9955—Envelope, Transparent, Large, 10″ × 13″, BX/25

Mandatory Purchase For:

Total Government Requirement

Mandatory Source of Supply:

Georgia Industries for the Blind, Bainbridge, GA

Contracting Activity:

General Services Administration, New York, NY

Distribution:

A-List

NSN(s)—Product Name(s):

6650-00-NIB-0009—Complete Eyeglasses (frames and lenses). Clear plastic single vision eyewear frames and lenses. CR-39 lens material, single vision, plastic lens type. UOI is EA.

6650-00-NIB-0010—Complete Eyeglasses (frames and lenses). Clear plastic flat top 28 bifocal eyewear frames and lenses. CR-39 lens material, flat top 28, bifocal, clear lens type. UOI is EA.

6650-00-NIB-0011—35 bifocal eyewear frames and lenses. CR-39 lens material, flat top 35, bifocal, clear lens type. UOI is EA.

6650-00-NIB-0012—Complete Eyeglasses (frames and lenses). Clear plastic round 25 and round 28, eyewear frames and lenses. CR-39 lens material, round 25 and 28, clear lens type. UOI is EA.

6650-00-NIB-0013—Complete Eyeglasses (frames and lenses). Clear plastic flat top 7 × 28 eyewear frames and lenses. CR-39 lens material, flat top 7 × 28 clear lens type. UOI is EA.

6650-00-NIB-0014—Complete Eyeglasses (frames and lenses). Clear plastic flat top 8 × 35 eyewear frames and lenses. CR-39 lens material, flat top 8 × 35 clear lens type. UOI is EA.

6650-00-NIB-0015—Complete Eyeglasses (frames and lenses). Clear plastic progressives (VIP, Adaptar, Freedom, Image) eyewear frames and lenses. CR-39 lens material, progressives, clear lens type. UOI is EA.

6650-00-NIB-0016—Complete Eyeglasses (frames and lenses). Clear plastic lenticular aspheric single vision eyewear frames and lenses. CR-39 lens material, single vision aspheric lenticular lens material. UOI is EA.

6650-00-NIB-0017—Complete Eyeglasses (frames and lenses). Clear plastic flat top or round aspheric lenticular eyewear frames and lenses. CR-39 lens material, flat top or round aspheric lenticular lens type. UOI is EA.

6650-00-NIB-0018—Complete Eyeglasses (frames and lenses). Clear plastic executive bifocal eyewear frames and lenses. CR-39 lens material, executive bifocal clear lens type. UOI is EA.

6650-00-NIB-0019—Complete Eyeglasses (frames and lenses). Clear glass single vision eyewear frames and lenses. Glass lens material, single vision clear lens type. UOI is EA.

6650-00-NIB-0020—Complete Eyeglasses (frames and lenses). Clear glass flat top bifocal eyewear frames and lenses. Glass lens material, flat top 28 bifocal clear lens type. UOI is EA.

6650-00-NIB-0021—Complete Eyeglasses (frames and lenses). Clear glass flat top 35 bifocal eyewear frames and lenses. Glass lens material, flat top 35 bifocal clear lens type. UOI is EA.

6650-00-NIB-0022—Complete Eyeglasses (frames and lenses). Clear glass flat top 7 × 28 trifocal eyewear frames and lenses. Glass lens material, flat top 7 × 28 trifocal clear lens type. UOI is EA.

6650-00-NIB-0023—Complete Eyeglasses (frames and lenses). Clear glass flat top 8 × 35 trifocal eyewear frames and lenses. Glass lens material, flat top 8 × 35 trifocal clear lens type. UOI is EA.

6650-00-NIB-0024—Complete Eyeglasses (frames and lenses). Clear glass progressives (VIP, Adaptar, Freedom) eyewear frames and lenses. Glass lens material, progressive clear lens type. UOI is EA.

6650-00-NIB-0026—Complete Eyeglasses (frames and lenses). Clear single vision polycarbonate eyewear frames and lenses. Polycarbonate lens material, single vision clear lens type. UOI is EA.

6650-00-NIB-0027—Complete Eyeglasses (frames and lenses). Clear flat top 28 bifocal polycarbonate eyewear frames and lenses. Polycarbonate lens material, flat top 28 clear lens type. UOI is EA.

6650-00-NIB-0028—Complete Eyeglasses (frames and lenses). Clear flat top 35 polycarbonate eyewear frames and lenses. Polycarbonate lens material, flat top 35 clear lens type. UOI is EA.

6650-00-NIB-0029—Complete Eyeglasses (frames and lenses). Clear flat top 7 × 28 polycarbonate eyewear frames and lenses. Polycarbonate lens material, flat top 7 × 28 clear lens type. UOI is EA.

6650-00-NIB-0030—Complete Eyeglasses (frames and lenses). Clear flat top 8 × 35 polycarbonate eyewear frames and lenses. Polycarbonate lens material, flat top 8 × 35 clear lens type. UOI is EA.

6650-00-NIB-0031—Complete Eyeglasses (frames and lenses) Progressives (VIP, Adaptar, Freedom, Image) polycarbonate eyewear frames and lenses. Polycarbonate lens material, progressives, clear lens type. UOI is EA.

6650-00-NIB-0032—Lenses only, 1 pair of clear plastic single vision clear eyewear lenses. CR-39 lens material, single vision plastic clear lens type. UOI is EA.

6650-00-NIB-0033—Lenses only, 1 pair of clear plastic flat top 28 bifocal clear eyewear lenses. CR-39 lens material, flat top 28 bifocal clear lens type. UOI is EA.

6650-00-NIB-0034—Lenses only, 1 pair of clear plastic flat top 35 bifocal clear lenses. CR-39 lens material, flat top 35 bifocal clear lens type. UOI is EA.

6650-00-NIB-0035—Lenses only, 1 pair of clear plastic round 25 and round 28 clear lenses. CR-39 lens material, Round 25 and 28 clear lens type. UOI is EA.

6650-00-NIB-0036—Lenses only, 1 pair of clear plastic flat top 7 × 28 trifocal clear lenses. CR-39 lens material, flat top 7 × 28 clear lens type. UOI is EA.

6650-00-NIB-0037—Lenses only, 1 pair of clear plastic flat top 8 × 35 trifocal clear lenses. CR-39 lens material, flat top 8 × 35 clear lens type. UOI is EA.

6650-00-NIB-0038—Lenses only, 1 pair of clear plastic progressives (VIP, Adaptar, Freedom, Image) lenses. CR-39 lens material, progressive, clear lens type. UOI is EA.

6650-00-NIB-0039—Lenses only, 1 pair of clear plastic single vision aspheric lenticular lenses. CR-39 lens material, single vision aspheric lenticular lens type. UOI is EA.

6650-00-NIB-0040—Lenses only, 1 pair of clear plastic flat top or round aspheric lenticular lenses. CR-39 lens material, flat top or round aspheric lenticular lens type. UOI is EA.

6650-00-NIB-0041—Lenses only, 1 pair of clear plastic executive bifocal lenses. CR-39 lens material, executive bi-focal clear lens type. UOI is EA.

6650-00-NIB-0042—Lenses only, 1 pair of clear glass single vision lenses. Glass lens material, single vision clear lens type. UOI is EA.

6650-00-NIB-0043—Lenses only, 1 pair of clear glass bifocal flat top 28 lenses. Glass lens material, Flat Top 28, bifocal, clear lens type. UOI is EA.

6650-00-NIB-0044—Lenses only, 1 pair of clear glass bifocal flat top 35 eyewear lenses. Glass lens material, Flat Top 35, bifocal, clear lens type. UOI is EA.

6650-00-NIB-0045—Lenses only, 1 pair of clear glass trifocal flat top 7 × 28 lenses. Glass lens material, Flat Top 7 × 28, trifocal, clear lens type. UOI is EA.

6650-00-NIB-0046—Lenses only, 1 pair of clear glass trifocal flat top 8 × 35 lenses. Glass lens material, Flat Top 8 × 35, trifocal, clear lens type. UOI is EA.

6650-00-NIB-0047—Lenses only, 1 pair of clear glass progressives (VIP, Adaptar, Freedom) lenses. Glass lens material, progressive, clear lens type. UOI is EA.

6650-00-NIB-0049—Lenses only, 1 pair of clear polycarbonate single vision lenses. Polycarbonate lens material, single vision lens type. UOI is EA.

6650-00-NIB-0050—Lenses only, 1 pair of clear polycarbonate flat top 28 eyewear lenses. Polycarbonate lens material, flat top 28 clear lens type. UOI is EA.

6650-00-NIB-0051—Lenses only, 1 pair of clear polycarbonate bifocal flat top 35 lenses. Polycarbonate lens material, flat top 35 clear lens type. UOI is EA.

6650-00-NIB-0052—Lenses only, 1 pair of clear polycarbonate trifocal flat top 7 × 28 lenses. Polycarbonate lens material, flat top 7 × 28, clear lens type. UOI is EA.

6650-00-NIB-0053—Lenses only, 1 pair of clear polycarbonate trifocal flat top 8 × 35 lenses. Polycarbonate lens material, flat top 8 × 35, clear lens type. UOI is EA.

6650-00-NIB-0054—Lenses only, 1 pair of polycarbonate progressives (VIP, Adaptar, Freedom, Image) lenses. Polycarbonate lens material, progressives, clear lens type. UOI is EA.

6650-00-NIB-0055—Plastic transition tints and coating. CR-39 or polycarbonate lens material; Single vision or multi-focal lens type. UOI is EA.

6650-00-NIB-0056—Photochromatic/transition (Polycarbonate material) tints and coating. Polycarbonate lens material; Single vision or multifocal lens type. UOI is EA.

6650-00-NIB-0057—Photogrey tints and coating. Glass lens material. Single vision or multi-focal lens type. UOI is EA.

6650-00-NIB-0058—High index transition tints and coating. CR-39 lens material. Single vision or multi-focal lens type. UOI is EA.

6650-00-NIB-0059—Anti-reflective coating. CR-39 or polycarbonate lens material; Single vision or multi-focal lens type. UOI is EA.

6650-00-NIB-0060—Ultraviolet coating. CR-39 lens material; Single vision or multifocal lens type. UOI is EA.

6650-00-NIB-0061—CR-39 lens material. (single vision) tints and coating for polarized lenses. Single vision or multi-focal lens type. UOI is EA.

6650-00-NIB-0062—Lens add-on. CR-39 or polycarbonate lens material. Single vision or multi-focal lens type. UOI is EA.

6650-00-NIB-0063—Lens add-on. High index lens material. Single vision or multifocal lens type. UOI is EA.

6650-00-NIB-0064—Lens add-on. Prism (up to 6 diopters no charge) >6 diopters/per diopter. CR-39 or polycarb lens material. UOI is EA.

6650-00-NIB-0065—Lens add-on. Diopter + or −9.0 and above. CR-39 lens material. UOI is EA.

6650-00-NIB-0066—Lens add-on. Oversize eye lenses greater than 58 excluding progressive. Roll and polish edge; CR-39 lens material and polycarbonate lens type. UOI is EA.

6650-00-NIB-0067—Lens add-on. Hyper 3 drop single vision. CR-39 lens material; Multi-focal lens type. UOI is EA.

6650-00-NIB-0068—Lens add-on. Add powers over 4.0. CR-39 lens material; Multifocal lens type. UOI is EA.

6650-00-NIB-0069—Metal or plastic eyeglass frame without the lenses. Frame only. UOI is EA.

Mandatory Purchase For:

100% of the requirement of the Department of Veteran's Affairs

Mandatory Source of Supply:

Winston-Salem Industries for the Blind, Inc., Winston-Salem, NC

Contracting Activity:

Department of Veterans Affairs, 248-Network Contract Office 8, Tampa, FL

Distribution:

C-List

SERVICE:

Service Type:

Laundry Service

Service Mandatory For:

US Army, Asymmetric Warfare Training Center Lee Drive Fort A.P. Hill, VA

Mandatory Source of Supply:

Rappahannock Goodwill Industries, Inc., Fredericksburg, VA

Contracting Activity:

Dept of the Army, W6QK ACC-APG DIR, Aberdeen Proving Ground, MD

Deletions

The following services are proposed for deletion from the Procurement List:

SERVICES:

Service Type:

Janitorial/Custodial & Grounds Maintenance Service

Service Mandatory For:

Naval & Marine Corps Reserve Center 261 Industrial Park Drive, Ebensburg, PA

Mandatory Source of Supply:

Unknown

Contracting Activity:

Dept of the Navy, Naval Facilities Engineering CMD MID LANT, Norfolk, VA

Service Type:

Janitorial/Custodial Service

Service Mandatory For:

OCIE Warehouse, Latrobe, PA

Mandatory Source of Supply:

Rehabilitation Center and Workshop, Inc., Greensburg, PA

Contracting Activity:

Dept of the Army, W6QM MICC Ctr-Ft Dix (RC), Fort Dix, NJ

Service Type:

Repair of Adding Machines Service

Service Mandatory For:

Unknown

Mandatory Source of Supply:

Federation Employment and Guidance Service, Inc., New York, NY

Contracting Activity:

General Services Administration, FPDS Agency Coordinator, Washington, DC

Service Type:

Janitorial/Custodial Service

Service Mandatory For:

Bureau of Land Management Imperial County, CA

Mandatory Source of Supply:

ACHIEVE Human Services. Inc., Yuma, AZ

Contracting Activity:

Office of Policy, Management, and Budget, NBC Acquisition Services Division, Washington, DC

Service Type:

Medical Transcription Service

Service Mandatory For:

355th Medical Supply-F5HOSP, 4175 South Alamo, Bldg 400, Davis-Monthan AFB, AZ

Mandatory Source of Supply:

National Telecommuting Institute, Inc., Boston, MA

Contracting Activity:

Dept of the Air Force, FA7014 AFDW PK, Andrews AFB, MD

Service Type:

Mailroom Operation Service

Service Mandatory For:

14th U.S. Coast Guard District, 300 Ala Moana Boulevard, Honolulu, HI

Mandatory Source of Supply:

Goodwill Contract Services of Hawaii, Inc., Honolulu, HI

Contracting Activity:

U.S. Coast Guard, SILC BSS, Norfolk, VA

Service Type:

Car Wash Service

Service Mandatory For:

Customs and Border Protection, Indio Border Station, 83-801 Vin Deo Circle, Indio, CA

Mandatory Source of Supply:

Sheltering Wings Corp., Blythe, CA

Contracting Activity:

U.S. Customs and Border Protection, Procurement Directorate, Washington, DC

Service Type:

Administrative Service

Service Mandatory For:

GSA, Tucson PBS: Tucson Field Office, 300 W. Congress, Tucson, AZ

Mandatory Source of Supply:

J.P. Industries, Inc., Tucson, AZ

Contracting Activity:

General Services Administration, FPDS Agency Coordinator, Washington, DC

Service Type:

Mailroom Operation Service

Service Mandatory For:

U.S. Army Corps of Engineers: Los Angeles District, Los Angeles, CA

Mandatory Source of Supply:

Elwyn, Inc., Aston, PA

Contracting Activity:

Office of Asst Secretary For Health Except National Centers, Mid-America CASU in Kansas City, Kansas City, MO

Service Type:

Recycling Service

Service Mandatory For:

Davis-Monthan Air Force Base, AZ

Mandatory Source of Supply:

Beacon Group SW., Inc., Tucson, AZ

Contracting Activity:

Department of Veterans Affairs, NAC, Hines, IL

Service Type:

Mailroom Operation Service

Service Mandatory For:

Customs and Border Protection Laguna Niguel Facilities, 24000 Avila Road. Laguna Niguel, CA

Mandatory Source of Supply:

Landmark Services, Inc., Santa Ana, CA

Contracting Activity:

Bureau of Customs and Border Protection, National Acquisition Center, Indianapolis, IN

Service Type:

Janitorial/Grounds and Related Service

Service Mandatory For:

Clearfield Federal Depot: Buildings C-6, C-7, D-5 and 2, Clearfield, UT

Mandatory Source of Supply:

Pioneer Adult Rehabilitation Center Davis County School District, Clearfield, UT

Contracting Activity:

General Services Administration, FPDS Agency Coordinator, Washington, DC

Service Type:

Janitorial/Custodial Service

Service Mandatory For:

VA Greater Los Angeles Regional Healthcare System, Consolidated Mail Outpatient Pharmacy, 11301 Wilshire Boulevard, Building 222, Los Angeles, CA

Mandatory Source of Supply:

Job Options, Inc., San Diego, CA

Contracting Activity:

Department of Veterans Affairs, NAC, Hines, IL

Service Type:

Warehousing Operations Service

Service Mandatory For:

O'Brien Warehouse, U.S. Geological Survey, Menlo Park Science Center, 1020 O'Brien Drive, Menlo Park, CA

Mandatory Source of Supply:

Hope Services, San Jose, CA

Contracting Activity:

Geological Survey, Office of Acquisition and Grants—Sacramento, CA

Service Type:

Janitorial/Custodial Service

Service Mandatory For:

VA Outreach Center, 9737 Haskell Avenue, Sepulveda, CA

Mandatory Source of Supply:

Job Options, Inc., San Diego, CA

Contracting Activity:

Department of Veterans Affairs, NAC, Hines, IL

Service Type:

Grounds Maintenance Service

Service Mandatory For:

National Park Service: Golden Gate National Recreation Area, Fort Mason, San Francisco, CA

Contracting Activity:

National Park Service, PWR Regional Contracting, San Francisco, CA

Barry S. Lineback,
Director, Business Operations.

[FR Doc. 2015-14441 Filed 6-11-15; 8:45 am]

BILLING CODE 6353-01-P